DEPARTMENT OF HEALTH AND HUMAN SERVICES

Centers for Disease Control and Prevention

[Program Announcement 02007]

State Implementation Projects for Preventing Secondary Conditions and Promoting the Health of People With Disabilities; Notice of Availability of Funds

A. Purpose

The Centers for Disease Control and Prevention (CDC) announces the availability of fiscal year (FY) 2002 funds for cooperative agreements for State implementation projects for preventing secondary conditions and promoting the health of persons with disabilities. This program addresses the Healthy People 2010 focus area of Disability and Secondary Conditions.

The purpose of this program is to support States in preventing secondary conditions in persons with disabilities and in implementing effective health promotion and wellness programs for persons with disabilities.

This announcement is comprised of three levels of cooperative agreements:

Level I—Full State Implementation Projects with Intervention and Evaluation Components. The purpose of this Level is to sustain and expand support for States having already established CDC programs, provide the resources to build upon achievements and effective collaborations now in place, and allow States to immediately implement intervention programs to address the documented needs of targeted populations. Level I awards will also provide a mechanism to permit States to offer on-site guidance and consultation to other State projects to accelerate their development and capacity to also prevent secondary conditions and promote the health of people with disabilities. Level I projects are expected to implement targeted interventions during the first budget year.

Level II—State Implementation Projects. The purpose of this Level is: (1) To allow currently funded States that may not meet the comprehensive requirements for a Level I award to continue to develop their State Plan, advisory, program management, disability surveillance, partnering, health promotion, and intervention planning functions to advance toward a Full State Implementation Project; and (2) to allow States not currently funded that have an advanced capacity to also address and achieve the program status and operational components noted above, and expressed under the Recipient Activities listed in this announcement. Level II projects should have the capacity to implement targeted interventions within the project period based on established or developed capacity.

Level III—State Infrastructure Development Projects. The purpose of this Level is to provide States not currently funded with the resources to develop the infrastructure necessary, and build the capacity to meet the comprehensive requirements and components of a State implementation project over time. These States should aspire to demonstrate performance that could later form the basis for consideration for additional funding based on the achievement of program goals and objectives. Funding for Level III projects is designed to develop State infrastructure, and the short-term implementation of intervention activities is not required.

B. Eligible Applicants

Assistance will be provided to the health departments of States or their bona fide agents or designees, including the District of Columbia, the Commonwealth of Puerto Rico, the Virgin Islands, the Commonwealth of the Northern Mariana Islands, American Samoa, Guam, federally recognized Indian tribal governments, the Federated States of Micronesia, the Republic of the Marshall Islands, and the Republic of Palau.

Agencies applying under this announcement other than the official health department must provide written concurrence from that health agency and describe the proposed collaborative relationship. Under that circumstance, the role of the official State health agency must be shown to be complementary, collaborative, and demonstrate clearly defined programmatic commitments and obligations.

Only one application from each State or Territory may be submitted for each Level. The agency determined to be the applicant for the State may apply for more than one Level of funding under the eligibility requirements for each. Once that agency is determined, no other agency within that State can submit an application for any other Level of funding. However, a complete and separate application must be submitted from that same applicant agency/entity based on the program requirements and evaluation criteria for that component (Level) of this announcement. Only one award will be issued per State.

States are considered the most appropriate applicants since the national goals of this program include developing capacity in all States and their delivery systems to monitor, characterize, and improve the health of people with disabilities and prevent secondary conditions.

Three levels of cooperative agreements will be awarded:

Level I: Eligible applicants for Level I funding are States currently funded under CDC Program Announcement Number 97030, Disability and Health State Programs.

To be eligible, applicants for Level I must also provide:

a. The State Plan for Disability and Health. The Plan must be established and published, and being utilized at the State level for the planning, implementation and tracking of program activities.

b. An established and functioning disability and health advisory component of which at least 30 percent of the members are people with disabilities. A listing of the advisory committee membership with their areas of expertise and interest is to be provided and certified by the committee/council chairperson, with an indication only as to the number within that group who have a disabling condition.

Documentation to determine eligibility for Level I must begin on the first page of the application narrative. Applications that fail to submit evidence listed above will be considered non-responsive and will be returned without review. A copy of the State Plan and the composition and function statement of the Advisory Council must be provided as attachments to the application.

Level II: Eligible applicants for Level II funding are all States, Tribes and Territories regardless of their current CDC Disability and Health Program funding status.

Level III: Eligible applicants for Level III funding are States, Tribes and Territories not currently funded by CDC under the Disability and Health Program.

The funding Level being requested must be clearly stated on the cover sheet of the application. A one page abstract of the proposed project should be included immediately after the table of contents.

Note: Title 2 of the United States Code section 1611 states that an organization described in section 501(c)(4) of the Internal Revenue Code that engages in lobbying activities is not eligible to receive Federal funds constituting an award, grant or loan.

C. Availability of Funds

Approximately $5,000,000 will be available in FY 2002 to fund State implementation projects.

Level I: CDC anticipates making 4-6 awards which will not exceed $450,000 each.

Level II: CDC anticipates making 4-6 awards which will not exceed $300,000 each.

Level III: CDC anticipates making 6-10 awards which will not exceed $140,000 each.

Level I State awards are expected to begin on April 1, 2002, for a twelve month budget period within a project period of up to five years.

Level II and Level III State awards are also expected to begin on April 1, 2002, for a 12-month budget period within a project period of up to three years.

Funding estimates are subject to change. Continuation awards within the approved project period will be made on the basis of satisfactory progress, reports, and the availability of funds.

Use of Funds

These awards may be used for personnel services, supplies, equipment, travel, subcontracts, consultants, and services directly related to project activities. Funds may not be used to supplant State or local funds for the purpose of this cooperative agreement, for construction costs, to lease or purchase space or facilities, or for patient care.

By virtue of accepting an award, States are understood to have agreed to use cooperative agreement funds for travel by project staff selected to participate in CDC-sponsored workshops, and for meetings requiring out-of-state travel.

This program has no statutory matching requirement; however applicants should demonstrate and document capacity to support a portion of project costs, increase cost-sharing over time, and identify other funding sources for expanding the project.

Conference Call

CDC will conduct a conference call on November 7, 2001 with prospective applicants to answer questions regarding this announcement. If you wish to participate, contact by e-mail the official noted for Program Technical Assistance in the “Where to Obtain Additional Information” section of this announcement. You will be informed by return e-mail as to the time, telephone number, and pass code for that call. You are encouraged to provide advance questions that will be part of the general discussion during the call.

D. Program Requirements

In conducting activities to achieve the purposes of this program, the recipient will be responsible for activities under 1. Recipient Activities, and CDC will be responsible for activities listed under 2. CDC Activities.

1. Recipient Activities for Level I projects:

a. Implement a disability and health program that is recognized within the State health department or other award agency that is visible to the population of persons with disabilities in the State and their support network.

b. Develop an operational work plan with a structured evaluation component for the first two years of the project that includes objectives, methods, benchmark time frames for accomplishment of objectives, outcomes, and staff responsibilities for specific tasks.

c. Support existing state advisory activities related to review and refinement of the State Plan, development of initiatives and objectives, and program evaluation.

d. Implement the State Plan for disability and health through: (1) Collaborating with other entities that provide services to, or advocate for people with disabilities; (2) continuing existing university partnerships and expand relationships with other institutions that sponsor disability-related programs; (3) providing assistance and curriculum guidance to service providers and educational programs that impact the lives of persons with disabilities; (4) refining existing mechanisms for computerized communications and information systems including web sites and linkages; (5) providing technical assistance to key collaborators and partners; and (6) fostering systems change to make existing health promotion efforts inclusive of people with disabilities.

e. Extend the planning process through State-sponsored Healthy People 2010 objectives or other instruments that require accountability and progress reporting.

f. Effect the collection of data using survey questions from the Behavioral Risk Factor Surveillance System (BRFSS) related modules and other survey instruments.

g. Develop and implement health promotion programs and intervention initiatives (based on or indicated by existing disability survey data or State administrative data) to work with defined populations.

h. Establish and implement a plan to evaluate the efficacy and effectiveness of the selected interventions.

i. Disseminate health promotion and secondary condition prevention information through innovative marketing plans.

j. Plan, co-sponsor, conduct, and evaluate a statewide disability and health conference by not later than the close of the second budget year.

k. Provide mentoring and training support to Level II and III State projects as a model for program operations and replication.

Recipient Activities for Level II and Level III projects: Note that items (a) through (f) relate to activities for both Level II and III applicants. Item (g) below relates only to Level II applicants.

a. Establish the organizational location and focus for the project within the applicant agency and engage key collaborators (e.g., disability service organizations, advocacy and voluntary groups, universities) in the design and attainment of program goals and objectives.

b. Expand or develop an advisory function comprised of key partners representing the disability community that can contribute to policy and planning functions. At least 30 percent of the advisory membership must have a disabling condition.

c. Promote and help develop strategic planning instruments that will influence State-level public health and health promotion activities such as Healthy People 2010 objectives.

d. Collect and analyze data using survey questions in the BRFSS or other survey instruments.

e. Investigate and document the feasibility of gaining access to or obtaining information from administrative data within the State to plan and implement activities to prevent secondary conditions and improve the health of people with disabilities to which the data relate.

f. Disseminate health promotion information through diverse and innovative marketing plans.

g. Plan, implement and evaluate over the project period health promotion interventions related to Chapter 6 objectives in Healthy People 2010 or the leading health indicators for people with disabilities.

2. CDC Activities:

a. Provide scientific and programmatic technical assistance as requested or indicated in the planning and conduct of disability data collection, communications, and health promotion activities.

b. Provide a point of referral and coordination for State, regional and/or national data pertinent to the disabling process.

c. Provide assistance to States in regard to BRFSS, or other survey-based sources of data, and assist in the analysis of the resulting information.

d. Facilitate coordination with other federal statistical research and data resources.

e. Assist State projects in their development of program evaluation measures and processes.

E. Application Content

Letter of Intent

A non-binding letter of intent is requested from prospective applicants. The letter should not exceed one page. It should identify the announcement number, name the proposed project director, and denote the funding Level being proposed. This letter will allow CDC to determine the amount of interest in the announcement, to plan the review more efficiently, and to ensure that each applicant receives timely and relevant information prior to the application submission date.

Application Content

Use the information in the Program Requirements, Application Content, Other Requirements, and Evaluation Criteria to develop the application. The application will be evaluated and scored on the criteria listed, so it is important to follow them in laying out your program plan. Potential applicants are directed to the Program Guidance, Attachment II, that is pertinent to this announcement and available on the “CDC Funding Opportunities” Web site at http://www.cdc.gov/od/pgo/funding/02007.htm

For Level I applications, the narrative should be no more than 55 double-spaced pages, printed on one side, with one-inch margins, and 12 point font.

For Level II and III applications, the narrative should not be more than 50 double-spaced pages printed on one side, with one-inch margins, and 12 point font.

In all cases, the budget justification and human subjects narrative does not count against the maximum page length.

Applications must be held together only by rubber bands or metal clips and not be bound together in any other way. Attachments to the application should be held to a minimum in keeping to those items referenced or required by this Announcement.

Within the narrative, Level I applicants should provide the following information:

1. Document performance in current project activities including a progress report that re-states major objectives from the past two budget years and clearly indicates project performance in meeting those specific objectives.

2. Indicate how the State Plan and Advisory Functions are contributing to the design of the proposed work plan and how they will be used to advance and support project activities.

3. Provide accounts of how the project is assuring the inclusion of persons with disabilities within agency services and functions, and how the applicant agency is promoting the health of persons with disabilities.

4. Furnish descriptions of the epidemiologic capacity structure in place to coordinate and promote data collection and analysis including the BRFSS, other state data sources, selected administrative data sets, and with university partners. Describe how the applicant will assess the reliability and validity of epidemiological data collected and used for policy development and intervention planning.

5. Discuss the foundation and rationale for selecting the specific population(s) for health promotion and intervention programs and its congruence with Healthy People 2010 goals and objectives, health disparities, or leading health indicators for people with disabilities.

6. Identify the specific intervention design(s) proposed based on a justification that includes empirical support of the effectiveness of the proposed program in improving health and/or environmental outcomes for the selected population. Provide evidence that such support consists of documentation from research literature or credible evaluations conducted by the applicant or other investigators.

7. Provide a time interval-based graphic flowchart covering the first two years. Include the methods proposed for specific major objective attainment.

8. Denote the responsibilities of individual staff members including the level of effort and time allocation for each proposed major activity by staff position. This includes the capacity to appoint a full-time program manager/coordinator to provide oversight responsibility for the entire project.

9. Describe how the applicant will assess changes in public policy and measure the effects of its technical assistance to communities and targeted groups.

10. Denote the specific organizations that will provide services in support of the applicant's work plan, and how those services will be delivered and evaluated.

11. Describe the specific health promotion, outreach, and intervention programs proposed and how and by whom they will be implemented and evaluated.

Within the narrative, Level II and Level III applicants should provide the following information:

1. Provide background information as to why the applicant has elected to submit an application, denote the current status of disability and health programs in the state, and describe your understanding of the need for this program in the State. Include the extent of the problem, available services and support resources, at-risk groups, knowledge gaps, and the use of this award in meeting such needs.

2. Provide justification for emphasizing select populations or the sub-group of disabling conditions to be targeted by the applicant.

3. Discuss the collaborations proposed with principal partners in the conduct of the project, such as a formal university alliance that will have an impact on the capacity of the State to mount or improve efforts in health promotion and the prevention of secondary conditions.

4. Describe the roles and responsibilities of working partners denoting the products and services to be provided.

5. Outline the process for developing or completing a formal State Plan for the prevention of secondary conditions and promoting the health of people with disabilities, and describe the role of a new or existing advisory function to aid in that effort and in other assigned responsibilities.

6. Furnish descriptions of the epidemiologic capacity structure in place or proposed to coordinate and promote data collection and analysis including the BRFSS, other state data sources, selected administrative data sets, and those in conjunction with identified partners.

7. Describe the plan for how the university partnership (if selected), or collaboration with other agencies will be engaged to facilitate epidemiologic excellence toward assessing both the magnitude of disability, and the risk and protective factors related to the onset and progress of secondary conditions for the purpose of planning future health promotion priorities.

8. Describe how the applicant will assess the reliability and validity of epidemiological data collected and used for policy development and planning.

9. Provide a description of the proposed staffing for the project, and the plan to expedite filling of all positions, including the appointment of a full time program manager/coordinator.

10. Discuss the responsibilities of individual staff members including the level of effort and time allocation for each major project objective by staff position.

11. Present a graphic flowchart (i.e., Gantt chart) denoting time interval performance expectations over the first budget year.

12. Discuss how the project will measure the outcomes of proposed targeted activities (e.g., increases in public awareness, knowledge, behavior, and the overall benefits of State Planning and advisory activities) and how the project will determine the extent of changes in public policies, and measure the effects of its communications outreach directed toward communities and special populations.

13. Present how the applicant will achieve the integration of disability and health functions as a component of applicant/health agency activities, including awareness of and attention to Americans With Disabilities Act (ADA) compliance issues.

F. Submission and Deadline

Letter of Intent (LOI)

On or before November 14, 2001, submit the LOI to the Official Designated for Program Technical Assistance identified in the “Where to Obtain Additional Information” section of this announcement.

Application

Submit the original and two copies of Form PHS 5161-1 (OMB Number 0920-0428). Forms are available in the application kit and at the following Internet address: http://www.cdc.gov/od/pgo/forminfo.htm

On or before January 10, 2002, submit the application to the Grants Management Specialist identified in the “Where to Obtain Additional Information” section of this announcement.

Deadline: Applications will be considered as meeting the deadline if they are either:

a. Received on or before the deadline date; or

b. Sent on or before the deadline date and received in time for submission to the objective review group. (Applicants must request a legibly dated U.S. Postal Service postmark or obtain a legibly dated receipt from a commercial carrier or the U.S. Postal Service. Private metered postmarks will not be acceptable as proof of timely mailing.)

Late Applications: Applications that do not meet the criteria in a. or b. above are considered late applications. Late applications will not be considered in the current competition and will be returned to the applicant.

G. Evaluation Criteria

Applications will be evaluated individually against the following criteria by an independent review group appointed by CDC.

Level I Applicants (Total 100 Points)

1. Documentation of Progress and Performance in Current Project: (20 Points)

a. The extent to which the applicant provides a concise indication of its progress and performance to date, and how that work will serve as a foundation for, and directly contribute to meeting the health promotion and intervention requirements specified under this announcement.

b. The extent to which the applicant provides adequate descriptions of the activities of the planning and advisory functions, and the planned use of the products of university and other disability collaborators in working with the applicant in shaping and implementing the work plan for the new project period.

2. Integration of disability and health activities into applicant agency public health functions: (15 Points)

a. The extent to which the applicant demonstrates clear evidence of how the project's visibility and leadership are being utilized to embrace and promote the health of people with disabilities within the State by agencies that provide disability-related services and programs.

b. The extent to which the applicant provides adequate descriptions of how it has and will continue to assure that the program services and activities funded are fully accessible to persons with disabilities. This includes how the applicant is working with the State's Americans with Disabilities Act (ADA) compliance coordinator to address and facilitate access and service equality concerns.

3. Strength of established and emerging surveillance activities: (20 Points)

a. The extent to which the applicant effectively demonstrates the epidemiologic capacity and structure in place to coordinate and facilitate data collection, analysis, interpretation, and dissemination.

b. The extent to which the applicant provides adequate descriptions of how it will conduct the BRFSS, access other State disability information sources related to the population of interest such as administrative data sets; and how such data is currently being utilized.

c. The extent to which the applicant adequately describes its plan for how the university partnership or other entities will be engaged to facilitate epidemiologic excellence toward assessing the magnitude of disability, and the risk and protective factors related to the onset and progression of secondary conditions for the purpose of setting health promotion priorities.

d. The extent to which the project demonstrates its capacity to assess the reliability and validity of epidemiological data collected and used for policy development, and directed toward defined health promotion interventions.

4. Intervention planning and targeted health promotion programs toward preventing secondary conditions: (20 points)

a. The extent to which the applicant adequately presents the methods to be employed to reach the intended audience described in the narrative during the first budget year, including how progress will be tracked and measured throughout the entire project period. This criteria includes describing and defining the specific interventions proposed.

b. The extent to which the applicant adequately describes how it will engage people with disabilities and their support networks into the design and evaluation of proposed interventions and health promotion programs.

c. The extent to which the applicant provides a comprehensive approach to provide health promotion outreach programs, technical assistance, education and training, and the proposed design of a shared information and communications dissemination system.

d. The extent to which the applicant fully describes the methods, process, and project components which it will use as a basis for providing training and counseling/mentoring support to Level II and III States.

e. The extent to which the applicant fully describes a viable plan for securing necessary human subjects approvals in a timely manner prior to implementing the proposed interventions.

5. Goals, Objectives, Management and Staffing, and Evaluation Plan: (25 Points)

a. The extent to which the established project goals and objectives are specific, measurable, achievable, and time-referenced; and based on a formal work plan with descriptive methods.

b. The extent to which the organizational placement of the project assures maximum visibility and influence, and that staff responsibilities are effectively directed toward meeting project objectives.

c. The extent to which the applicant provides adequate descriptions of key staff responsibilities addressing proposed major activities.

d. The extent to which the method to evaluate and measure the process, effects, and outcomes of the elements of the total work plan is reasonable and viable over the course of the proposed project.

e. The degree to which the applicant has met the CDC Policy requirements regarding the inclusion of women, ethnic, and racial groups in proposed research. This includes: (1) The proposed plan for the inclusion of both sexes and racial and ethnic minority populations for appropriate representation; (2) the proposed justification when representation is limited or absent; (3) a statement as to whether the design of the study is adequate to measure differences in prevalence, risk and protective factors, and program outcomes when warranted; and (4) a statement as to whether the plans for recruitment and outreach for study participants include the process of establishing partnerships with community(ies) and recognition of mutual benefits.

6. Budget Justification: (Not Scored)

The budget section must provide a clear, concise, accurate and justifiable explanation of expenditures and a full itemization of line categories for Federal and non-Federal funds comprising the total budget. It also must show consistency with the project goals and objectives and all intended uses of cooperative agreement funds.

7. Human Subjects if applicable: (Not Scored)The extent to which the applicant complies with the Department of Health and Human Services Regulations (45 CFR Part 46) regarding the protection of human subjects.

Level II and Level III Applicants (100 Points)

1. Evidence of Need and Understanding of the Problem:(10 Points)

a. The extent to which the applicant provides an adequate description and understanding of the magnitude of disabilities showing evidence (as available) of estimates of prevalence, demographic indicators, severity, effect on families and caregivers, and associated costs.

b. The degree to which the applicant provides a suitable description of the extent of current activities related to disability and health, including those addressing the prevention of secondary conditions within the State.

2. Evidence of Collaboration: (20 Points)

a. The extent to which the proposed collaborations are well documented with letters of commitment conveying specific indications as to the level of involvement and material effort to be provided in support of project objectives.

b. The extent to which the applicant adequately describes the proposed or existing advisory function, including evidence of representation of persons with disabilities and their role and capacity to influence State-level policy.

c. The extent to which the applicant presents evidence that demonstrates how these collaborations will result in successful infrastructure development and expansion of the project to include planning for future health promotion interventions.

d. The extent to which the proposed approach demonstrates an effective process to develop and publish a State strategic plan with a Healthy People 2010 emphasis, and/or policy directive for the prevention of secondary conditions as a precursor to the development of the State Plan.

3. Epidemiologic Capacity: (20 Points)

a. The extent to which the application conveys the epidemiologic capacity and structure in place to coordinate and facilitate disability-related data collection, analysis, interpretation, and dissemination.

b. The extent to which the applicant adequately describes how it will conduct the BRFSS, access other State disability information sources related to the population of interest such as administrative data sets; and how such data is currently, or will be utilized.

c. The extent to which the applicant effectively describes its plan for how the university partnership or other entities will be engaged to facilitate epidemiologic excellence toward assessing the magnitude of disability, and the risk and protective factors related to the onset and progression of secondary conditions for the purpose of setting health promotion priorities.

4. Goals and Objectives and Management/Staffing Plan:(25 Points)

a. The extent to which the formal work plan includes a clear and concise presentation of project goals and objectives which are specific, measurable, achievable, and time-referenced.

b. The extent to which the organizational placement of the project assures optimal visibility and influence based on evidence provided by applicant agency leadership.

c. The extent to which the applicant provides adequate descriptions of key staff responsibilities addressing proposed major activities.

d. The extent to which the applicant effectively documents its plan to provide technical assistance, education and training, and health promotion programs; and the proposed design of a shared information and communications dissemination system.

e. The degree to which the applicant has met the CDC Policy requirements regarding the inclusion of women, ethnic, and racial groups in proposed research. This includes: (1) The proposed plan for the inclusion of both sexes and racial and ethnic minority populations for appropriate representation; (2) the proposed justification when representation is limited or absent; (3) a statement as to whether the design of the study is adequate to measure differences when warranted; and (4) a statement as to whether the plans for recruitment and outreach for study participants include the process of establishing partnerships with community(ies) and recognition of mutual benefits.

5. Program Evaluation: (15 Points)

a. The extent to which the applicant presents an appropriate and viable plan for the overall evaluation of the project; including the design, methods (quantitative methods as well as qualitative approaches such as focus groups), partners, and processes to be followed for conducting project evaluation.

b. The extent to which the applicant adequately outlines the methods and process by which it will self-evaluate its performance towards meeting all specified time-phased objectives.

6. Program services for persons with disabilities:(10 Points)

a. The extent to which the applicant addresses how it will assure and achieve integration of disability and health functions as an integral component of applicant/health agency services and operations.

b. The extent to which the applicant fully accounts for how it will work with the Americans with Disabilities (ADA) compliance office in the State toward promoting full access to applicant agency services and programs for persons with disabilities.

7. Budget Justification: (Not Scored) The budget section must provide a clear, concise, accurate and justifiable explanation of expenditures and a full itemization of line categories for Federal and non-Federal funds comprising the total budget. It also must show consistency with the project goals and objectives and all intended uses of cooperative agreement funds.

8. Human Subjects—if applicable: (Not Scored)

The extent to which the applicant complies with the Department of Health and Human Services Regulations (45 CFR Part 46) regarding the protection of human subjects.

H. Other Requirements

Technical Reporting Requirements

Provide CDC with the original plus two copies of:

1. Semi-annual progress reports no later than 30 days after each six-month period;

2. Financial status report, no later than 90 days after the end of each budget period; and

3. Final financial report and performance report, no later than 90 days after the end of the project period.

Send all reports to the Grants Management Specialist identified in the “Where to Obtain Additional Information” section of this announcement.

The following additional requirements are applicable to this program. For a complete description of each, see Attachment I of the announcement.

AR-1 Human Subjects Requirements

AR-2 Requirements for Inclusion of Women and Racial Minorities in Research

AR-7 Executive Order 12372 Review

AR-9 Paperwork Reduction Act Requirements

AR-10 Smoke-free Workplace Requirements

AR-11 Healthy People 2010

AR-12 Lobbying Restrictions

AR-22 Research Integrity

I. Authority and Catalog of Federal Domestic Assistance Number

This program is authorized under Sections 301 and 317 of the Public Health Service Act, (42 U.S.C. Sections 241 and 247(b) as amended. The Catalog of Federal Domestic Assistance number is 93.184.

J. Where To Obtain Additional Information

This and other CDC announcements can be found on the CDC home page Internet address— http://www.cdc.gov. Click on Funding, then go to Grants and Cooperative Agreements.

If you have questions after reviewing the contents of all the documents, business management technical assistance may be obtained from:Nancy Pillar, Grants Management Specialist,Grants Management Branch, Procurement and Grants Office,Announcement Number 02007,Centers for Disease Control and Prevention (CDC),2920 Brandywine Road, Room 3000,Atlanta, Georgia 3034-4146,Telephone: 770-488-2721,E-mail address: nfp6@cdc.gov.

For program technical assistance, contact:Joseph B. Smith, Senior Project Officer,National Center on Birth Defects and Developmental, Disabilities, CDC, 4770 Buford Highway (F-35),Atlanta, Georgia 30341,Telephone: 770-488-7082,E-mail address: jos4@cdc.gov.

Dated: October 16, 2001.
Rebecca B. O'Kelley,
Acting Director, Procurement and Grants Office, Centers for Disease Control and Prevention.

[FR Doc. 01-26519 Filed 10-19-01; 8:45 am]

BILLING CODE 4163-18-P